DEPARTMENT OF COMMERCE

Patent and Trademark Office

37 CFR Part 1

[Docket No.: 2003-P-011]

Correspondence With the United States Patent and Trademark Office

Correction

In rule document 03-9696 appearing on page 19371 in the issue of Monday, April 21, 2003, make the following corrections:

1. On page 19371, in the second column, the CFR part number heading is corrected to read as set forth above.

PART 1—[Corrected]

2. On the same page, in the third column, the part heading is corrected to read as set forth above.

[FR Doc. C3-9696 Filed 4-28-03; 8:45 am]

BILLING CODE 1505-01-D

DEPARTMENT OF DEFENSE

GENERAL SERVICES ADMINISTRATION

NATIONAL AERONAUTICS AND SPACE ADMINISTRATION

48 CFR Part 8

[FAR Case 1999-603]

RIN 9000-AJ63

Federal Acquisition Regulation; Federal Supply Schedules Services and Blanket Purchase Agreements (BPAs)

Correction

In proposed rule document 03-9554 beginning on page 19294 in the issue of Friday, April 18, 2003 make the following correction:

PART 8— [CORRECTED]

On page 19294, in the third column, in amendatory instruction 2., in the fifth line, “adding in ” should read “adding“ agency in” ”.

[FR Doc. C3-9554 Filed 4-28-03; 8:45 am]

BILLING CODE 1505-01-D